DEPARTMENT OF LABOR

Employment and Training Administration

Notice of Determinations Regarding Eligibility to Apply for Worker Adjustment Assistance and NAFTA Transitional Adjustment Assistance

In accordance with section 223 of the Trade Act of 1974, as amended, the Department of Labor herein presents summaries of determinations regarding eligibility to apply for trade adjustment assistance for workers (TA-W) issued during the period of February, 2003.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,310; Inteplast Group Ltd, Integrated Bagging Systems, Lolita, TX

TA-W-41,882; Aermotor Pumps, Inc., Sta-Rite Industries, a Wholly Owned Subsidiary of Wisconsin Energy Corp., Conway, AR

In the following case, the investigation revealed that the criteria for eligibility have not been met for the reasons specified.

The investigation revealed that criterion (a)(2)(A)(I.C.) (increased imports) has not been met.

TA-W-50,059; Flowserve, Williamsport, PA

The investigation revealed that criterion (a)(2)(A) (I.C) (increased imports) and (a)(2)(B) (II.C1) (has shifted production to a country not under the free trade agreement with the U.S.) have not been met.

TA-W-50,448; Universal Instruments Corp., a Subsidiary of Dover Corp., Surface Mount Div., Conklin, NY

The investigation revealed that criterion (a)(2)(A) (I.B) (sales or production, or both did not decline) and (a)(2)(A) (II.B) (no shift in production to a foreign country) have not been met.

TA-W-50,516; Gina's, Inc., Brooklyn, NY

The investigation revealed that criterion (a)(2)(A) (I.A.) (no employment declines) has not been met.

TA-W-50,341; Cooper-Standard Automotive, NVH Division, El Dorado, AR

The investigation revealed that criterion (a)(2)(A) (I.C.) (Increased imports) and (a)(2)(B) (II.B) (No shift in production of a foreign country) have not been met.

TA-W-50,415; Times Fiber Communication, Inc., Chatham, VA

TA-W-50,530; PHB Tool and Die, Girard, PA

The workers firm does not produce an article as required for certification under Section 222 of the Trade Act of 1974.

TA-W-50,571; Computer Sciences Corp., Technology Management Group, Falls Church, VA

TA-W-50,590; MSX International, Inc., Dearborn, MI

TA-W-50,676; Matrox Tech, Inc., Boca Raton, FL

TA-W-50,741; Consolidated Freightways Corp. of Delaware, Shoreview, MN

TA-W-50,809; Eastman Kodak Co., Skilled Resources Div., Rochester, NY

TA-W-50,767; Delta Air Lines, Inc., Technical Operations Center, Atlanta, GA

TA-W-50,811; Penske Truck Leasing Co., L.P., Brea, CA

TA-W-50,105; Ericsson, Inc., Base Station and Systems Development Div., Research Triangle Park, NC

TA-W-50,484; Hewlett Packard Co., Vancouver, WA

TA-W-50,532; Western Digital Corp., Rochester, MN

The investigation revealed that criteria (2) has not been met. The workers' firm (or subdivision) is not an upstream supplier or components for trade-affected companies.

TA-W-50,719; Menasha Packaging Co., LLC, Coloma, MI

Affirmative Determinations for Worker Adjustment Assistance

The following certifications have been issued; the date following the company name and location of each determination references the impact date for all workers of such determination.

TA-W-42,251; Southwestern Glass Co., Inc., Van Buren, AR: October 1, 2001.

TA-W-42,336 & A; Power One, Boston, MA and Power One, International Power Devices, Andover, MA: October 15, 2001.

TA-W-42,192; Waukesha Electric Systems, Inc., Milpitas, CA September 12, 2001.

The following certifications have been issued. The requirements of (a)(2)(A) (increased imports) of Section 222 have been met.

TA-W-50,265; HBK Industries, Blackwood, NJ: December 3, 2001.

TA-W-50,344 & A,B; Rough and Ready Lumber Co., Cave Junction, OR, Rough and Ready Lumber Sales, Cave Junction, OR, Indian Hill LLC, Cave Junction, OR, Including Leased Workers of Barrett Business Services and Hire Calling, Cave Junction, OR: December 12, 2001

TA-W-50,454; FAI, Inc., Wisconsin Pattern Co., Racine, WI: December 18, 2001

TA-W-50,387; Pittsburgh Cut Flower Co., Pittsburgh, PA: December 12, 2001.

TA-W-50,533; Mastercraft Fabrics, LLC, Including Temporary Workers of Manpower, Personnel Services Unlimited, Coxe Personnel, Spindale, NC: January 2, 2002.

TA-W-50,652; The Carbide/Graphite Group, Inc., Pittsburgh, PA: January 8, 2002.

TA-W-50,692; Findlay Industries, Inc., Findlay, OH: January 24, 2002.

TA-W-50,515; PPC Macomb, Inc., Macomb, IL: January 7, 2002.

TA-W-50,870 & A; Freedom Plastics LLC, Joliet, IL and Sheffield, IL: January 10, 2002

TA-W-50,422; Altx, Inc., Watervaliet, NY: December 30, 2001.

TA-W-50,331; Suntec Industries, Inc., Rockford, IL: December 11, 2001.

The following certifications have been issued. The requirements of (a)(2)(B) (shift in production) of Section 222 have been met.

TA-W-50,093; Kane Magnetics International, Inc., Kane, PA: November 6, 2001.

TA-W-50,431; General Electric Co., Lighting Div., Bucyrus Lamp Plant, Bucyrus, OH: November 20, 2001

TA-W-50,634; International Paper, Hopkinsville, KY: January 20, 2002.

TA-W-50,598; Blandin Paper Co., Grand Rapids, MI: January 15, 2002.

TA-W-50,235; Baker Enterprises, Inc., a Subsidiary of Besser Co., Alpena, MI: November 8, 2001.

TA-W-50,250; Polyone Corp., Compound Plant, Farmingdale, NJ: November 19, 2001.

TA-W-50,569; Datex-Ohmeda, Louisville, CO: January 14, 2002.

TA-W-50,435; Foster Wheeler Energy Corp., a Subsidiary of Foster Wheeler Corp., Dansville, NY: December 20, 2001.

TA-W-50,451; Berendsen Fluid Power, Houston, TX: December 16, 2001.

TA-W-50,368; The Flexaust Co., Inc., Appliance Div., El Paso, TX: December 7, 2001.

The following certification has been issued. The requirement of upstream supplier to trade certified primary firm has been met.

TA-W-50,355; Southwest Silica Flux, Hanover, NM: December 1, 2001.

Also, pursuant to Title V of the North American Free Trade Agreement Implementation Act (Pub. L. 103-182) concerning transitional adjustment assistance hereinafter called (NAFTA-TAA) and in accordance with section 250(a), subchaper D, chapter 2, title II, of the Trade Act as amended, the Department of Labor presents summaries of determinations regarding eligibility to apply for NAFTA-TAA issued during the month of February 2003.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06396; Aermotor Pumps, Inc., Sta-Rite Industries, a Wholly Owned Subsidiary of Wisconsin Energy Corp., Conway, AR

NAFTA-TAA-07633; Southwestern Glass Co., Inc., Van Buren, AR

Affirmative Determinations NAFTA-TAA

NAFTA-TAA-07556; Waukesha Electric Systems, Inc., Milpitas, CA: August 8, 2001.

NAFTA-TAA-07627; &A; Power One, Boston, MA and Power One, International Power Devices, Andover, MA: October 15, 2001.

NAFTA-TAA-06425; Fort Dearborn Co., Coldwater, MI: July 11, 2001.

NAFTA-TAA-06533; SPX, Valves and Controls Div., Sartell, MN: August 14, 2001.

I hereby certify that the aforementioned determinations were issued during the months of February 2003. Copies of these determinations are available for inspection in Room C-5311, U.S. Department of Labor, 200 Constitution Avenue, NW., Washington, DC 20210 during normal business hours or will be mailed to persons who write to the above address.

Dated: February 26, 2003.
Edward A. Tomchick,
Director, Division of Trade Adjustment Assistance.

[FR Doc. 03-5551 Filed 3-7-03; 8:45 am]

BILLING CODE 4510-30-P